DEPARTMENT OF TRANSPORTATION

Federal Motor Carrier Safety Administration

[Docket No. FMCSA-2017-0017]

Qualification of Drivers; Exemption Applications; Vision

AGENCY: Federal Motor Carrier Safety Administration (FMCSA), DOT.

ACTION: Notice of applications for exemptions; request for comments.

SUMMARY: FMCSA announces receipt of applications from 36 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 5, 2017. All comments will be investigated by FMCSA. The exemptions will be issued the day after the comment period closes.

ADDRESSES: You may submit comments bearing the Federal Docket Management System (FDMS) Docket No. FMCSA-2017-0017 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 36 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

David A. Buchanan

Mr. Buchanan, 46, has chorioretinal scarring in his left eye due to a traumatic incident in 2013. The visual acuity in his right eye is 20/20, and in his left eye, 20/200. Following an examination in 2016, his optometrist stated, “Also, Mr. Buchanan's overall vision with both eyes is normal 20/20. I think he should be able to perform the driving tests required for his commercial vehicle.” Mr. Buchanan reported that he has driven straight trucks for 6 years, accumulating 90,000 miles, and tractor-trailer combinations for 15 years, accumulating 300,000 miles. He holds a Class A CDL from South Carolina. His driving record for the last 3 years shows no crashes and no convictions for moving violations in a CMV.

Brian E. Burrows

Mr. Burrows, 45, has had amblyopia in his left eye since birth. The visual acuity in his right eye is 20/20, and in his left eye, 20/125. Following an examination in 2016, his optometrist stated, “In my medical opinion, this patient has sufficient vision to safely perform tasks required to operate a commercial vehicle.” Mr. Burrows reported that he has driven straight trucks for 20 years, accumulating 840,000 miles. He holds a Class A CDL from Texas. His driving record for the last 3 years shows no crashes and no convictions for moving violations in a CMV.

Esta Cadet

Mr. Cadet, 41, has had amblyopia in his right eye since childhood. The visual acuity in his right eye is 20/100, and in his left eye, 20/25. Following an examination in 2016, his optometrist stated, “Therefore, both his visual acuity and color vision meet the standards to qualify him to operate a commercial vehicle under the DOT regulation provided.” Mr. Cadet reported that he has driven straight trucks for 3 years, accumulating 34,000 miles. He holds a Class A CDL from Florida. His driving record for the last 3 years shows no crashes and no convictions for moving violations in a CMV.

Gary G. Colby

Mr. Colby, 53, has had amblyopia in his left eye since birth. The visual acuity in his right eye is 20/20, and in his left eye, 20/400. Following an examination in 2016, his optometrist stated, “Gary has no peripheral vision defects and is capable of operating a commercial vehicle in all conditions.” Mr. Colby reported that he has driven straight trucks for 8 years, accumulating 400,000 miles, and tractor-trailer combinations for 8 years, accumulating 400,000 miles. He holds a Class A CDL from Utah. His driving record for the last 3 years shows no crashes and no convictions for moving violations in a CMV.

Herman A. Davis

Mr. Davis, 43, has exotropia and scarring in his right eye due to a traumatic incident in childhood. The visual acuity in his right eye is 20/400, and in his left eye, 20/20. Following an examination in 2016, his optometrist stated, “In my medical opinion, Mr. Davis DOES [sic] have sufficient vision to perform the driving tasks required to operate a commercial vehicle.” Mr. Davis reported that he has driven straight trucks for 20 years, accumulating 108,000 miles, and tractor-trailer combinations for 5 years, accumulating 5,000 miles. He holds a Class A CDL from Alabama. His driving record for the last 3 years shows no crashes and no convictions for moving violations in a CMV.

Brandon G. Dills

Mr. Dills, 33, has had a prosthetic left eye due to a traumatic incident in childhood. The visual acuity in his right eye is 20/20, and in his left eye, no light perception. Following an examination in 2016, his optometrist stated, “He demonstrates sufficient vision abilities to pass a commercial driving license exam.” Mr. Dills reported that he has driven straight trucks for 10 years, accumulating 250,000 miles, and buses for 10 years, accumulating 20,000 miles. He holds a Class A CDL from North Carolina. His driving record for the last 3 years shows no crashes and no convictions for moving violations in a CMV.

Jeremy L. Fricke

Mr. Fricke, 34, has complete loss of vision in his right eye due to a traumatic incident in 2002. The visual acuity in his right eye is no light perception, and in his left eye, 20/15. Following an examination in 2016, his optometrist stated, “His vision in the left eye is excellent uncorrected and, in my opinion, is sufficient to perform the driving tasks required to operate a commercial vehicle.” Mr. Fricke reported that he has driven straight trucks for 8 years, accumulating 32,000 miles, and tractor-trailer combinations for 12 years, accumulating 48,000 miles. He holds an operator's license from North Dakota. His driving record for the last 3 years shows no crashes and 2 convictions for moving violations in a CMV; in the first incident, he exceeded the speed limit by 20 mph, and in the second incident he exceeded the speed limit by 15 mph.

Scott J. Geritano

Mr. Geritano, 55, has had glaucoma in his left eye since 2013. The visual acuity in his right eye is 20/20, and in his left eye, 20/70. Following an examination in 2016, his optometrist stated, “Therefore, based on the testing above, he does have sufficient vision to perform the driving tasks required to operate a commercial vehicle.” Mr. Geritano reported that he has driven straight trucks for 12 years, accumulating 300,000 miles, and tractor-trailer combinations for 19 years, accumulating 1.5 million miles. He holds a Class A CDL from North Carolina. His driving record for the last 3 years shows no crashes and no convictions for moving violations in a CMV.

Jonathen M. Gilligan

Mr. Gilligan, 29, has had a degenerated globe in his left eye since childhood. The visual acuity in his right eye is 20/30, and in his left eye, light perception. Following an examination in 2016, his optometrist stated, “Jonathan [sic] has satisfactorily undertaken and passed the necessary requirements for CDL driving certification. Tests have proven stability and clearly demonstrates sufficient vision to perform the driving tasks required to operate a COMMERCIAL [sic] vehicle.” Mr. Gilligan reported that he has driven straight trucks for 6 years, accumulating 150,000 miles. He holds a Class AM CDL from New York. His driving record for the last 3 years shows no crashes and no convictions for moving violations in a CMV.

Jeffrey J. Graham

Mr. Graham, 47, has had a choroidal neovascular membrane in his right eye since 2013. The visual acuity in his right eye is 20/250, and in his left eye, 20/20. Following an examination in 2016, his optometrist stated, “Therefore, I will certify, in my medical opinion, that Jeffrey has sufficient vision to operate a commercial vehicle.” Mr. Graham reported that he has driven tractor-trailer combinations for 29 years, accumulating 2.9 million miles. He holds a Class E CA CDL from Michigan. His driving record for the last 3 years shows no crashes and no convictions for moving violations in a CMV.

Dustin L. Hawkins

Mr. Hawkins, 29, has had coats disease in his right eye since childhood. The visual acuity in his right eye is no light perception, and in his left eye, 20/20. Following an examination in 2016, his optometrist stated, “In my medical opinion, Mr. Hawkins has sufficient vision in his left eye to operate a commercial vehicle.” Mr. Hawkins reported that he has driven straight trucks for 7 years, accumulating 140,000 miles, and tractor-trailer combinations for 2 years, accumulating 94,000 miles. He holds a Class A CDL from Missouri. His driving record for the last 3 years shows no crashes and no convictions for moving violations in a CMV.

Michael S. Higham

Mr. Higham, 62, has retinal detachment in his right eye since 2012. The visual acuity in his right eye is light perception, and in his left eye, 20/20. Following an examination in 2016, his ophthalmologist stated, “The visual acuity is normal and there are no abnormalities in the left eye . . . There are no deficiencies that would not allow him to operate a commercial vehicle.” Mr. Higham reported that he has driven tractor-trailer combinations for 39 years, accumulating 3.32 million miles. He holds a Class A CDL from Illinois. His driving record for the last 3 years shows no crashes and no convictions for moving violations in a CMV.

Travis R. Honzel

Mr. Honzel, 36, has optic nerve damage in his left eye since birth. The visual acuity in his right eye is 20/20, and in his left eye, 20/400. Following an examination in 2016, his optometrist stated, “In my opinion, patient has sufficient vision to perform the driving tasks required to operate a commercial vehicle.” Mr. Honzel reported that he has driven straight trucks for 4 years, accumulating 20,000 miles, and tractor-trailer combinations for 4 years, accumulating 40,000 miles. He holds a Class A CDL from California. His driving record for the last 3 years shows 1 crash and no convictions for moving violations in a CMV.

Lloyd M. Hoover

Mr. Hoover, 50, has had a macular scar in his right eye due to histoplasmosis in childhood. The visual acuity in his right eye is 20/200, and in his left eye, 20/15. Following an examination in 2016, his optometrist stated, “Mr. Hoover also has visual fields extending to 120 degrees in the horizontal and in my opinion has sufficient vision to perform the tasks required to operate a commercial vehicle.” Mr. Hoover reported that he has driven straight trucks for 33 years, accumulating 16.5 million miles, and tractor-trailer combinations for 32 years, accumulating 16 million miles. He holds an operator's license from Pennsylvania. His driving record for the last 3 years shows no crashes and no convictions for moving violations in a CMV.

Roy W. Houser, II

Mr. Houser, 52, has had amblyopia in his left eye since birth. The visual acuity in his right eye is 20/20, and in his left eye, 20/400. Following an examination in 2016, his optometrist stated, “In my professional opinion, Mr. Houser has sufficient vision to perform the driving tasks required to operate a commercial vehicle.” Mr. Houser reported that he has driven straight trucks for 36 years, accumulating 540,000 miles, and tractor-trailer combinations for 31 years, accumulating 4.03 million miles. He holds an operator's license from North Carolina. His driving record for the last 3 years shows no crashes and no convictions for moving violations in a CMV.

Maurice R. Jones, Jr.

Mr. Jones, 65, has had amblyopia in his right eye since childhood. The visual acuity in his right eye is 20/60, and in his left eye, 20/20. Following an examination in 2016, his optometrist stated, “Vision is sufficient to operate a commercial vehicle.” Mr. Jones reported that he has driven straight trucks for 14 years, accumulating 28,000 miles. He holds an operator's license from Maryland. His driving record for the last 3 years shows no crashes and no convictions for moving violations in a CMV.

Robert B. Jordahl

Mr. Jordahl, 66, has had age-related macular degeneration in his left eye since 2006. The visual acuity in his right eye is 20/20, and in his left eye, 20/70. Following an examination in 2016, his optometrist stated, “I certify, that in my medical opinion this patient has sufficient vision to perform the driving tasks required to operate a commercial vehicle.” Mr. Jordahl reported that he has driven straight trucks for 45 years, accumulating 225,000 miles and tractor-trailer combinations for 30 years, accumulating 1.8 million miles. He holds a Class A CDL from North Dakota. His driving record for the last 3 years shows no crashes and no convictions for moving violations in a CMV.

Damian Klyza

Mr. Klyza, 34, has had amblyopia in his left eye since childhood. The visual acuity in his right eye is 20/150, and in his left eye, 20/20. Following an examination in 2016, his optometrist stated, “It is my professional opinion that he is visually capable of driving a commercial vehicle.” Mr. Klyza reported that he has driven straight trucks for 6 years, accumulating 210,000 miles. He holds an operator's license from New Jersey. His driving record for the last 3 years shows no crashes and no convictions for moving violations in a CMV.

John J. Lackey

Mr. Lackey, 48, has a prosthetic left eye due to a traumatic incident in 1993. The visual acuity in his right eye is 20/25, and in his left eye, no light perception. Following an examination in 2016, his optometrist stated, “Pt [sic] is observed to have sufficient vision to operate a commercial vehicle.” Mr. Lackey reported that he has driven straight trucks for 22 years, accumulating 330,000 miles, and tractor-trailer combinations for 22 years, accumulating 330,000 miles. He holds a Class A CDL from California. His driving record for the last 3 years shows no crashes and no convictions for moving violations in a CMV.

Zachary J. McCluskey

Mr. McCluskey, 21, has had amblyopia in his left eye since childhood. The visual acuity in his right eye is 20/20, and in his left eye, 20/200. Following an examination in 2016, his optometrist stated, “Given the chronic status of his visual acuity, patient likely competent to drive commercially but, [sic] patient must be cleared through the DOT.” Mr. McCluskey reported that he has driven straight trucks for 3 years, accumulating 16,500 miles. He holds an operator's license from Pennsylvania. His driving record for the last 3 years shows no crashes and no convictions for moving violations in a CMV.

Adam Merges

Mr. Merges, 53, has had amblyopia in his left eye since childhood. The visual acuity in his right eye is 20/20, and in his left eye, 20/150. Following an examination in 2016, his ophthalmologist stated, “He has low vision OS from abmlyolpia [sic] which is a congenital condition and stable for life. He meets all criteria set out by your department to operate a commercial vehicle.” Mr. Merges reported that he has driven straight trucks for 26 years, accumulating 702,000 miles, and tractor-trailer combinations for 26 years, accumulating 26,000 miles. He holds an operator's license from Minnesota. His driving record for the last 3 years shows no crashes and no convictions for moving violations in a CMV.

Jimmy L. Metcalf

Mr. Metcalf, 77, has optic nerve damage in his left eye due to a traumatic incident in 1950. The visual acuity in his right eye is 20/25, and in his left eye, 20/150. Following an examination in 2016, his optometrist stated, “There are no issues which would inhibit COMMERCIAL [sic] driving abilities based on visual performance of the right eye.” Mr. Metcalf reported that he has driven tractor-trailer combinations for 44 years, accumulating 1.76 million miles. He holds a Class A CDL from North Carolina. His driving record for the last 3 years shows no crashes and no convictions for moving violations in a CMV.

John R. Miller

Mr. Miller, 60, has a macular scar in his right eye due to a traumatic incident in 1981. The visual acuity in his right eye is 20/200, and in his left eye, 20/20. Following an examination in 2016, his ophthalmologist stated, “I feel that Mr. Miller has sufficient vision to operate a commercial vehicle.” Mr. Miller reported that he has driven straight trucks for 40 years, accumulating 1 million miles. He holds an operator's license from Pennsylvania. His driving record for the last 3 years shows no crashes and no convictions for moving violations in a CMV.

David G. Neff

Mr. Neff, 48, has had optic atrophy in his left eye since 2012. The visual acuity in his right eye is 20/20, and in his left eye, 20/40. Following an examination in 2016, his optometrist stated, “In my medical opinion, David has sufficient vision to perform the driving tasks required to operate a commercial vehicle.” Mr. Neff reported that he has driven straight trucks for 6 years, accumulating 312,000 miles. He holds an operator's license from Kentucky. His driving record for the last 3 years shows no crashes and no convictions for moving violations in a CMV.

Matthew J. Neufer

Mr. Neufer, 33, has had amblyopia in his right eye since childhood. The visual acuity in his right eye is 20/50, and in his left eye, 20/20. Following an examination in 2016, his optometrist stated, “My opinion is that Mr. Neufer is able to visually perform the duties mentioned in the letter for operating commercial vehicles.” Mr. Neufer reported that he has driven straight trucks for 5 years, accumulating 600,000 miles. He holds an operator's license from Pennsylvania. His driving record for the last 3 years shows no crashes and no convictions for moving violations in a CMV.

Vincent R. Neville

Mr. Neville, 46, has had amblyopia in his left eye since childhood. The visual acuity in his right eye is 20/20, and in his left eye, 20/60. Following an examination in 2016, his optometrist stated, “In my medical opinion, Vince has sufficient vision and can safely perform the driving tasks required to operate a commercial motor vehicle.” Mr. Neville reported that he has driven straight trucks for 16 years, accumulating 24,000 miles, and tractor-trailer combinations for 11 years, accumulating 11,000 miles. He holds a Class A CDL from Minnesota. His driving record for the last 3 years shows no crashes and no convictions for moving violations in a CMV.

Willie L. Nez, Jr.

Mr. Nez, 49, had his right eye enucleated due to a malignancy in 2005. The visual acuity in his right eye is no light perception, and in his left eye, 20/20. Following an examination in 2016, his ophthalmologist stated, “In my opinion, he has the visual capacity to perform his driving tasks to operate a commercial vehicle.” Mr. Nez reported that he has driven straight trucks for 26 years, accumulating 2.6 million miles, and tractor-trailer combinations for 26 years, accumulating 6.5 million miles. He holds a Class A CDL from Utah. His driving record for the last 3 years shows no crashes and no convictions for moving violations in a CMV.

Kevin B. Patterson

Mr. Patterson, 54, has complete loss of vision in his left eye due to malignant melanoma in 1991. The visual acuity in his right eye is 20/20, and in his left eye, no light perception. Following an examination in 2016, his optometrist stated that Mr. Patterson does have sufficient vision to perform the driving tasks required to operate a CMV. Mr. Patterson reported that he has driven tractor-trailer combinations for 26 years, accumulating 1.69 million miles. He holds a Class A CDL from Georgia. His driving record for the last 3 years shows no crashes and no convictions for moving violations in a CMV.

Stuart W. Penner

Mr. Penner, 66, has complete loss of vision in his right eye due to absolute glaucoma in childhood. The visual acuity in his right eye is no light perception, and in his left eye, 20/20. Following an examination in 2016, his optometrist stated, “It is my professional opinion that Mr. Penner has sufficient vision to perform the driving tasks required to operate a commercial vehicle.” Mr. Penner reported that he has driven straight trucks for 50 years, accumulating 750,000 miles, and tractor-trailer combinations for 20 years, accumulating 600,000 miles. He holds a Class A CDL from Kansas. His driving record for the last 3 years shows no crashes and no convictions for moving violations in a CMV.

Brock E. Peterson

Mr. Peterson, 41, has had amblyopia in his right eye since childhood. The visual acuity in his right eye is 20/80, and in his left eye, 20/20. Following an examination in 2016, his optometrist stated, “It is my medical opinion that Mr. Brock Peterson has sufficient vision with glasses to perform all the driving tasks required to operate a commercial vehicle.” Mr. Peterson reported that he has driven straight trucks for 7 years, accumulating 22,400 miles, tractor-trailer combinations for 7 years, accumulating 22,400 miles, and buses for 7 years, accumulating 22,400 miles. He holds an operator's license from North Dakota. His driving record for the last 3 years shows no crashes and no convictions for moving violations in a CMV.

Efren J. Soliz

Mr. Soliz, 48, has a prosthetic left eye due to a traumatic incident in childhood. The visual acuity in his right eye is 20/20, and in his left eye, no light perception. Following an examination in 2016, his optometrist stated, “This patient has sufficient visual field to operate a commercial vehicle.” Mr. Soliz reported that he has driven straight trucks for 3 years, accumulating 180,000 miles, and tractor-trailer combinations for 27 years, accumulating 2 million miles. He holds a Class A CDL from New Mexico. His driving record for the last 3 years shows no crashes and no convictions for moving violations in a CMV.

Anthony J.M. Thornburg

Mr. Thornburg, 38, has central vision loss in his right eye due to a traumatic incident in childhood. The visual acuity in his right eye is 20/400, and in his left eye, 20/20. Following an examination in 2016, his optometrist stated, “In my professional opinion, Mr. Thornburg has sufficient vision to operate a commercial motor vehicle safely” Mr. Thornburg reported that he has driven straight trucks for 5 years, accumulating 225,000 miles. He holds a chauffer's license from Michigan. His driving record for the last 3 years shows no crashes and no convictions for moving violations in a CMV.

Eric J. Wickman

Mr. Wickman, 47, had his right eye enucleated due to a traumatic incident in 1996. The visual acuity in his right eye is no light perception, and in his left eye, 20/20. Following an examination in 2016, his optometrist stated, “In summary, given the stable nature of Eric's visual deficiency and stable ocular health of his left eye, I feel that Eric functions well and is fully able to perform all driving tasks without restriction at this time.” Mr. Wickman reported that he has driven straight trucks for 22 years, accumulating 3.3 million miles, and tractor-trailer combinations for 22 years, accumulating 3.3 million miles. He holds a Class CA CDL from Michigan. His driving record for the last 3 years shows no crashes and no convictions for moving violations in a CMV.

Don S. Williams

Mr. Williams, 58, has a prosthetic right eye due to a traumatic incident in childhood. The visual acuity in his right eye is no light perception, and in his left eye, 20/20. Following an examination in 2016, his optometrist stated, “It is therefore my opinion that Mr. Williams has full field of vision and would not have difficulty driving any type of motor vehicle.” Mr. Williams reported that he has driven straight trucks for 12 years, accumulating 480,000 miles, and tractor-trailer combinations for 8 years, accumulating 880,000 miles. He holds an operator's license from Alabama. His driving record for the last 3 years shows no crashes and one conviction for a moving violation in a CMV; he exceeded the speed limit by 9 mph.

Garfield M. Williams

Mr. Williams, 40, has had amblyopia in his right eye since childhood. The visual acuity in his right eye is 20/200, and in his left eye, 20/20. Following an examination in 2016, his optometrist stated, “It is in my opinion that Mr. Williams does have sufficient vision to perform the driving tasks required to operate a commercial vehicle and will have no difficulty seeing at night.” Mr. Williams reported that he has driven tractor-trailer combinations for 7 years, accumulating 297,500 miles. He holds a Class A CDL from Texas. His driving record for the last 3 years shows no crashes and one conviction for a moving violation in a CMV; he failed to obey a traffic control device.

James J. Wyles

Mr. Wyles, 39, has had amblyopia in his right eye since childhood. The visual acuity in his right eye is hand motion, and in his left eye, 20/20. Following an examination in 2016, his ophthalmologist stated, “He has sufficient vision to operate a commercial vehicle.” Mr. Wyles reported that he has driven straight trucks for 23 years, accumulating 644,000 miles and tractor-trailer combinations for 3 years, accumulating 120,000 miles. He holds a Class A CDL from North Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2017-0017 in the “Keyword” box, and click “Search”. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2017-0017 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: April 27, 2017.
Larry W. Minor,
Associate Administrator for Policy.

[FR Doc. 2017-09000 Filed 5-3-17; 8:45 am]

BILLING CODE 4910-EX-P